DEPARTMENT OF COMMERCE

International Trade Administration

A-588-837

Extension of Time Limits for Preliminary Results and Final Results of the Reconsideration of the Sunset Review for Large Newspaper Printing Presses and Components Thereof, Whether Assembled or Unassembled, from Japan

AGENCY: Import Administration, International Trade Administration, Department of Commerce.

EFFECTIVE DATE: July 28, 2006.

FOR FURTHER INFORMATION CONTACT: David Goldberger or Katherine Johnson, AD/CVD Operations, Office 2, Import Administration, International Trade Administration, U.S. Department of Commerce, 14th Street and Constitution Avenue, NW., Washington, DC 20230; telephone (202) 482-4136, or (202) 482-4929, respectively.

SUPPLEMENTARY INFORMATION:

Background

On April 13, 2006, the Department of Commerce (the Department) initiated a reconsideration of the sunset review of the antidumping duty order on large newspaper printing presses and components thereof, whether assembled or unassembled (LNPP), from Japan. See Large Newspaper Printing Presses and Components Thereof, Whether Assembled or Unassembled, From Japan: Reconsideration of Sunset Review, 71 FR 19164 (April 13, 2006). On May 15, 2006, the Department received substantive responses from Goss International Corp., a domestic interested party, and from Mitsubishi Heavy Industries, Ltd. and Tokyo Kikai Seisakusho, Ltd., foreign producers and exporters of the subject merchandise, during the review period of September 4, 1996, through September 3, 2001. In the adequacy determination memorandum dated June 8, 2006, the Department stated that it would conduct a full review for this reconsideration of the sunset review, as provided for in section 751(c)(5)(A) of the Tariff Act of 1930, as amended (the Act) and 19 CFR 351.218 (e)(2)(i).

Extension of Time Limits

In accordance with section 751(c)(5)(B) of the Act, the Department may extend the period of time for making its determination by not more than 90 days, if it determines that the review is extraordinarily complicated. The Department has determined, pursuant to section 751(c)(5)(C)(ii) of the Act, that the reconsideration of the sunset review of the antidumping duty order on LNPP from Japan is extraordinarily complicated due to the complex issues raised by parties to this proceeding. Therefore, the Department requires additional time to complete its analysis. The Department's preliminary results of the sunset review reconsideration of the antidumping duty order on LNPP are scheduled for August 1, 2006. However, the Department will extend the deadline in this proceeding for the above-stated reason. As a result, the Department intends to issue the preliminary results of the full sunset review reconsideration by October 30, 2006, and the final results of that review by March 9, 2007. These dates are 90 days from the original scheduled dates of the preliminary and final results of the sunset review reconsideration. This notice is issued in accordance with sections 751(c)(5)(B) and (C) of the Act.

Dated: July 24, 2006.
Stephen J. Claeys,
Deputy Assistant Secretary, for Import Administration.

[FR Doc. E6-12119 Filed 7-27-06; 8:45 am]

BILLING CODE: 3510-DS-S